DEPARTMENT OF COMMERCE

International Trade Administration

Amended Trade Mission Dates and Application Deadlines for the U.S. ICT and Energy Efficiency Trade Mission to the Western Balkans and Amended Conference Location for the Trade Mission to Central America in Conjunction With Trade Americas—Business Opportunities in Central America Conference

AGENCY: International Trade Administration, Department of Commerce.

ACTION: Notice.

SUMMARY: The United States Department of Commerce, International Trade Administration, is making amendments to the following upcoming trade missions that were previously announced and published in the Federal Register, including U.S. ICT and Energy Efficiency Trade Mission to the Western Balkans, originally scheduled from October 23-28, 2022, is adjusted to October 31-November 4, 2022. The application deadline is extended to September 15, 2022; and Trade Mission to Central America in Conjunction with Trade Americas—Business Opportunities in Central America Conference, the conference location has changed to San Jose, Costa Rica, from Guatemala City, Guatemala.

FOR FURTHER INFORMATION CONTACT: Delia Valdivia, Senior International Trade Specialist, U.S. Commercial Service—Los Angeles (West), CA, delia.valdivia@trade.gov, Tel: 310-235-7203.

SUPPLEMENTARY INFORMATION: Amendments to Revise the Trade Mission Dates and Deadlines for Submitting Applications as Applicable.

Background

U.S. ICT and Energy Efficiency Trade Mission to the Western Balkans

The International Trade Administration has determined that to allow for optimal execution of recruitment and event scheduling for the mission, the dates of the mission are postponed from October 23-28, 2022 to October 30-November 4, 2022. As a result of the shift of the event dates the application deadline is revised to September 15, 2022. Applications may be accepted after that date if space remains and scheduling constraints permit. Interested U.S. companies and trade associations/organizations that have not already submitted an application are encouraged to do so. The U.S. Department of Commerce will review applications and make selection decisions on a rolling basis in accordance with the 87 FR 15367 (March 18, 2022). The applicants selected will be notified as soon as possible. The proposed schedule is updated as follows:

Proposed Timetable
Sunday, October 30, 2022 | • Trade Mission participants arrive in Belgrade, Serbia.
Monday, October 31, 2022 | • Morning briefing with U.S. Embassy officials and Ambassador Hill. • B2G meetings with President and Prime Minister.
| • Networking Lunch with AmCham Serbia Board of Governors. • B2G meetings with Ministry of Finance. • Reception hosted by Ambassador Hill.
Tuesday, November 1, 2022 | • B2B and B2G Meetings for Mission Delegates in Serbia. • Western Balkan 6 Regional Business Plenary Event.
| • Regional B2B Matchmaking/Meetings. • Western Balkan 6 Regional Networking Reception.
Wednesday, November 2, 2022 | • Morning flight to Podgorica, Montenegro. • Briefing with U.S. Embassy officials and Ambassador Reinke.
| • B2G Meetings. • Networking Lunch with AmCham Montenegro.
| • Government and Business Roundtable. • Reception hosted by Ambassador Reinke.
Thursday, November 3, 2022 | • Senior level B2G Meetings for Mission Delegates in Podgorica. • B2B or B2G Business Roundtable Lunch.
| • B2B Matchmaking. • Networking B2B Reception.
Friday, November 4, 2022 | • B2B and B2G Meetings. • End of Mission briefing. • Departure for the United States.

Contact

Embassy Belgrade/U.S. Commercial Service in Serbia

Rachel Duran, Senior Commercial Officer, 381117064072, Rachel.Duran@trade.gov

Boris Popovski, Senior Commercial Specialist, 381113064752, Boris.Popovski@trade.gov

Gordana Barac, Commercial Specialist, 381117064000, Gordana.Barac@trade.gov

Department of Commerce (Global Teams and U.S. Field)

Molly Ho, Global Technology Team Leader, U.S. Commercial Service Denver, Colorado, (303) 889-9789, Molly.Ho@trade.gov

Danielle Caltabiano, Global Energy Team Leader, U.S. Commercial Service Houston, Texas, (281) 228-5655, Danielle.Caltabiano@trade.gov

Department of Commerce HQ

Nathan Bradley, Western Balkan Desk Officer, Office of Central and Southeast Europe, (202)-482-2188, Nathan.Bradley@trade.gov

Kyle Johnson, Information Technologies Team Lead, Office of Health & Information Technologies, (202)-482-3013, Kyle.Johnson@trade.gov

Elise Reysbergen, ICT International Trade Specialist, Office of Health & Information Technologies, 202-482-3416, Elise.Reysbergen@trade.gov

Cary Ingram, Senior Telecommunications International Trade Specialist, Office of Health & Information Technologies, (202) 482-2872, Cary.Ingram@trade.gov

Andrew Moyseowicz, Senior Electric Utility Industry International Trade Specialist, Office of Energy and Environmental Industries, (202) 482-0188, Andrew.Moyseowicz@trade.gov

Trade Mission to Central America in Conjunction With Trade Americas—Business Opportunities in Central America Conference

It has been determined that to allow for optimal execution of recruitment and event scheduling for the mission, that the location of the mission launch is modified from Guatemala City, Guatemala to San Jose, Costa Rica. The U.S. Department of Commerce will continue to review applications submitted and make selection decisions on a rolling basis in accordance with the original Notice published at 87 FR 2130 (January 13, 2022). The U.S. Department of Commerce will continue to review applications submitted according to the deadline set at 87 FR 9317 (February 18, 2022) and make selection decisions on a rolling basis in accordance with the original Notice published at 87 FR 2130 (January 13, 2022). The applicants selected will be notified as soon as possible. The schedule for the updated mission launch location as follows*:

Proposed Timetable
Saturday, August 20, 2022 | Travel Day/Arrival in San Jose, Costa Rica. Optional Local Tour.
Sunday, August 21, 2022 | San Jose, Costa Rica. Afternoon: Registration, U.S. Embassy Officer Consultations and Market Briefing. Evening: Networking Reception.
Monday, August 22, 2022 | San Jose, Costa Rica. Morning: Registration and Trade Americas—Business Opportunities in Central America Conference. Afternoon: U.S. Embassy Officer Consultations and Workshops. Evening: Networking Reception.
Optional
Tuesday-Friday, August 23-26, 2022 | Travel and Business-to-Business Meetings in (choice of up to two markets): Option (A) Costa Rica. Option (B) Guatemala. Option (C) El Salvador. Option (D) Belize Option (E) Honduras. Option (F) Panama.
Saturday, August 27, 2022 | Travel Day. Return to the U.S.
* Note: The final schedule of meetings, events, and site visits will depend on the availability of host government and business officials, specific goals of mission participants, flight availability and ground transportation options.

Gemal Brangman,
Director, ITA Events Management Task Force.

[FR Doc. 2022-15857 Filed 7-22-22; 8:45 am]

BILLING CODE 3510-DR-P